DEPARTMENT OF THE INTERIOR

Fish and Wildlife Service

[FWS-HQ-FAC-2015-N067; FXFR133609ANS09-FF09F14000-134]

Aquatic Nuisance Species Task Force Meeting

AGENCY: Fish and Wildlife Service, Interior.

ACTION: Notice of meeting.

SUMMARY: We, the U.S. Fish and Wildlife Service, announce a public meeting of the Aquatic Nuisance Species (ANS) Task Force, which consists of 13 Federal and 13 ex-officio members. The ANS Task Force's purpose is to develop and implement a program for U.S. waters to prevent introduction and dispersal of aquatic invasive species (AIS); to monitor, control, and study such species; and to disseminate related information.

DATES: The ANS Task Force will meet from 8 a.m. to 5 p.m. on Wednesday, May 6, and Thursday, May 7, 2015, and on Friday, May 8, 2015, from 8 a.m. to noon. For more information, contact the ANS Task Force Executive Secretary (see FOR FURTHER INFORMATION CONTACT).

ADDRESSES: The ANS Task Force meeting will take place at the Bahia Mar Fort Lauderdale Beach, 801 Seabreeze Boulevard, Fort Lauderdale, Florida 33316, (Telephone: 954-764-2233).

FOR FURTHER INFORMATION CONTACT: Laura Norcutt, Acting Executive Secretary, ANS Task Force, by telephone at (703) 358-2398, or by email at Laura_Norcutt@fws.gov. If you use a telecommunications device for the deaf (TDD), please call the Federal Information Relay Service (FIRS) at 800-877-8339.

SUPPLEMENTARY INFORMATION: In accordance with the requirements of the Federal Advisory Committee Act, 5 U.S.C. App., we announce that the ANS Task Force will hold a meeting.

Background

The ANS Task Force was established by the Nonindigenous Aquatic Nuisance Prevention and Control Act of 1990 (Act) (Pub. L. 106-580, as amended), and is composed of 13 Federal and 13 ex-officio members, and co-chaired by the U.S. Fish and Wildlife Service and the National Oceanic and Atmospheric Administration. The ANS Task Force provides advice on AIS infesting waters of the United States and other nations, among other duties as specified in the Act.

Meeting Agenda

• Quagga-Zebra Mussel Action Plan Update

• Building Policy Consensus in the West: Update on Development of Model Law and Regulations

• Addressing AIS Transport at Federally Managed Water Bodies

• Fish Passage Need and AIS Threats

• Approval of the National Invasive Lionfish Prevention and Management Plan and the National Snakehead Control and Management Plan

• ANS Hotline Update

• eDNA Information Clearinghouse Web site

• Organisms in Trade Project and WebCrawler Tool

• Update from the Aquatic Invasive Species Summit: Boat Design and Construction in the Consideration of AIS

• Stop Aquatic Hitchhikers! Update

• Plans for Revitalizing Habitattitude

• ANSTF Involvement with National Invasive Species Awareness Week

• Detection and Management of Monoecious Hydrilla in the Erie Canal

• A National EDRR Framework and Emergency Response Funding Plan

• Hydraulic Fracturing for Gas Development as an AIS Pathway

There will be a field trip Wednesday from 1:30 p.m. to 5 p.m. on exotic fish and the South Florida melaleuca control program. To register for the field trip, complete this doodle poll: http://doodle.com/pdng82up43uranpx.

The final agenda and other related meeting information will be posted on the ANS Task Force Web site at http://anstaskforce.gov.

Meeting Minutes

Summary minutes of the meeting will be maintained by the Executive Secretary (see FOR FURTHER INFORMATION CONTACT). The minutes will be available for public inspection within 60 days after the meeting and will be posted on the ANS Task Force Web site at http://anstaskforce.gov.

Dated: April 13, 2015.
David W. Hoskins,
Co-Chair, Aquatic Nuisance Species Task Force, Assistant Director for Fish and Aquatic Conservation.

[FR Doc. 2015-08921 Filed 4-16-15; 8:45 am]

BILLING CODE 4310-55-P